DEPARTMENT OF JUSTICE

Notice of Lodging of Proposed Consent Decree Under the Comprehensive Environmental Response, Compensation, and Liability Act

On June 22, 2018, the Department of Justice lodged a proposed consent decree with the United States District Court for the Middle District of North Carolina in the lawsuit entitled United States v. North Carolina Department of Transportation, Civil Action No. 1:18-cv-00541.

The United States, on behalf of the U.S. Environmental Protection Agency (EPA), filed this lawsuit under the Comprehensive Environmental Response, Compensation, and Liability Act (CERCLA). The complaint seeks performance of response action for Operable Unit 1 of the Aberdeen Contaminated Groundwater Superfund Site (“Site”), in Moore County, North Carolina. The contaminated area associated with Town of Aberdeen supply wells #5 and #9 is known as “Operable Unit 1,” one of two operable units at the Site.

The proposed consent decree would resolve the claim alleged in the complaint. It requires defendant NCDOT to implement the remedy selected by EPA for Operable Unit 1.

The publication of this notice opens a period for public comment on the consent decree. Comments should be addressed to the Assistant Attorney General, Environment and Natural Resources Division, and should refer to United States v. North Carolina Department of Transportation, D.J. Ref. No. 90-11-3-1058/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611,

Please enclose a check or money order for $58.75 (25 cents per page reproduction cost) payable to the United States Treasury. For a paper copy without the exhibits and signature pages, the cost is $16.

Henry S. Friedman,
Assistant Section Chief, Environmental Enforcement Section, Environment and Natural Resources Division.

[FR Doc. 2018-14086 Filed 6-29-18; 8:45 am]

BILLING CODE 4410-15-P